DEPARTMENT OF ENERGY

Federal Energy Regulatory Commission

Combined Notice Of Filings # 2

Take notice that the Commission received the following electric rate filings:

Docket Numbers: ER10-3117-005.

Applicants: Lea Power Partners, LLC.

Description: Supplement to December 16, 2015 Triennial Market Power Analysis Filing for Southwest Power Pool region of Lea Power Partners, LLC.

Filed Date: 4/20/16.

Accession Number: 20160420-5197.

Comments Due: 5 p.m. ET 5/11/16.

Docket Numbers: ER13-2409-006; ER11-4501-011; ER12-2448-010; ER15-2615-001; ER15-2620-001; ER14-2858-005; ER12-979-010; ER11-4499-010; ER11-4498-010.

Applicants: Buffalo Dunes Wind Project, LLC, Caney River Wind Project, LLC, Chisholm View Wind Project, LLC, Goodwell Wind Project, LLC, Little Elk Wind Project, LLC, Origin Wind Energy, LLC, Rocky Ridge Wind Project, LLC, Smoky Hills Wind Farm, LLC, Smoky Hills Wind Project II, LLC.

Description: Supplement to December 18, 2015 Updated Market Power Analysis and Order No. 697 Compliance Filing of Buffalo Dunes Wind Project, LLC, et al.

Filed Date: 4/15/16.

Accession Number: 20160415-5339.

Comments Due: 5 p.m. ET 5/6/16.

Docket Numbers: ER16-1616-000.

Applicants: Puget Sound Energy, Inc.

Description: § 205(d) Rate Filing: Orcas NITSA S.A. No 792 and Orcas NOA S.A No 793 to be effective 5/1/2016.

Filed Date: 5/3/16.

Accession Number: 20160503-5124.

Comments Due: 5 p.m. ET 5/24/16.

Docket Numbers: ER16-1617-000.

Applicants: PJM Interconnection, L.L.C.

Description: Tariff Cancellation: Notice of Cancellation of WMPA SA No. 3445, Queue No. X1-073 due to Breach to be effective 5/3/2016.

Filed Date: 5/3/16.

Accession Number: 20160503-5142.

Comments Due: 5 p.m. ET 5/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2016.
Nathaniel J. Davis, Sr.,
Deputy Secretary.

[FR Doc. 2016-10867 Filed 5-9-16; 8:45 am]

BILLING CODE 6717-01-P